SECURITIES AND EXCHANGE COMMISSION

Sunshine Act Meetings

TIME AND DATE: 10:00 a.m. on Wednesday, October 11, 2017.

PLACE: Auditorium, Room L-002.

STATUS: This meeting will be open to the public.

MATTERS TO BE CONSIDERED: The Commission will consider whether to propose amendments based on the recommendations in the staff's Report on Modernization and Simplification of Regulation S-K, as required by Section 72003 of the Fixing America's Surface Transportation Act, and to modernize and simplify certain disclosure requirements in Regulation S-K and related rules and forms. The Commission also will consider certain parallel amendments to investment company and investment adviser rules and forms.

CONTACT PERSON FOR MORE INFORMATION: For further information and to ascertain what, if any, matters have been added, deleted or postponed; please contact Brent J. Fields from the Office of the Secretary at (202) 551-5400.

Dated: October 4, 2017.
Brent J. Fields,
Secretary.

[FR Doc. 2017-21705 Filed 10-5-17; 11:15 am]

BILLING CODE 8011-01-P